COMMITTEE FOR THE IMPLEMENTATION OF TEXTILE AGREEMENTS

Denial of Short Supply Request Under the United States - Caribbean Basin Trade Partnership Act (CBTPA) and the African Growth and Opportunity Act (AGOA)

August 31, 2001.

AGENCY: Committee for the Implementation of Textile Agreements (CITA).

ACTION: Denial of the petition alleging that micro-denier, 30 and 36 singles solution dyed staple open-end spun viscose yarn, for use in knit fabrics, cannot be supplied by the domestic industry in commercial quantities in a timely manner.

SUMMARY: On June 29, 2001 the Chairman of CITA received a petition from Fabrictex alleging that micro-denier, 30 and 36 singles solution dyed open-end staple spun viscose yarn, for use in knit fabrics, classified in subheading 5510.11.0000 of the Harmonized Tariff Schedule of the United States (HTSUS), cannot be supplied by the domestic industry in commercial quantities in a timely manner. It requested that apparel articles of U.S. formed fabrics of such yarns be eligible for preferential treatment under the CBTPA and AGOA. Based on currently available information, CITA has determined that substitutable products can be supplied by the domestic industry in commercial quantities in a timely manner and therefore denies the petition.

FOR FURTHER INFORMATION CONTACT: Janet Heinzen, International Trade Specialist, Office of Textiles and Apparel, U.S. Department of Commerce, (202) 482-3400.

SUPPLEMENTARY INFORMATION:

Authority: Section 112 (b)(5)(B) of the AGOA, Section 213(b)(2)(A)(v)(II) of the Caribbean Basin Economic Recovery Act, as added by Section 211(a) of the CBTPA; Sections 1 and 6 of Executive Order No. 13191 of January 17, 2001.

Background

The CBTPA and the AGOA provide for quota- and duty-free treatment for qualifying textile and apparel products. Such treatment is generally limited to products manufactured from yarns or fabrics formed in the United States or a beneficiary country. The CBTPA and the AGOA also provide for quota- and duty-free treatment for apparel articles that are both cut (or knit-to-shape) and sewn or otherwise assembled in one or more CBTPA or AGOA beneficiary countries from fabric or yarn that is not formed in the United States or a beneficiary country, if it has been determined that such fabric or yarn cannot be supplied by the domestic industry in commercial quantities in a timely manner. In Executive Order No. 13191, the President delegated to CITA the authority to determine whether yarns or fabrics cannot be supplied by the domestic industry in commercial quantities in a timely manner under the CBTPA and directed CITA to establish procedures to ensure appropriate public participation in any such determination. On March 6, 2001, CITA published procedures that it will follow in considering requests. (66 FR 13502).

On June 29, 2001 the Chairman of CITA received a petition from Fabrictex alleging that micro-denier, 30 and 36 singles solution dyed staple open-end spun viscose yarn, for use in knit fabrics, classified in subheading 5510.11.0000 of the Harmonized Tariff Schedule of the United States (HTSUS), cannot be supplied by the domestic industry in commercial quantities in a timely manner. It requested that apparel articles of U.S. formed fabrics of such yarns be eligible for preferential treatment under the CBTPA and the AGOA.

On July 9, 2001, CITA solicited public comments regarding this request (66 FR 35777) particularly with respect to whether this yarn can be supplied by the domestic industry in commercial quantities in a timely manner. On July 25, 2001, CITA and the Office of the U.S. Trade Representative offered to hold consultations with the relevant Congressional committees. We also requested advice from the U.S. International Trade Commission and the relevant Industry Sector Advisory Committees.

On the basis of currently available information, including its review of the petition and public comments and advice received and its understanding of the industry, CITA has determined that stock dyed viscose yarn is substitutable for a solution dyed viscose yarn for purposes of the intended use, and that this substitute yarn can be supplied by the domestic industry in commercial quantities in a timely manner. Currently available information indicates that there is available domestic capacity to open-end spin micro-denier viscose yarn and there is available domestic capacity to stock dye fiber to any color required by Fabrictex. Stock dyed open-end spun micro-denier viscose yarn can be supplied in the quantities and in the time frame specified by Fabrictex. CITA concludes in the context of this petition that U.S. producers have the ability to supply substitutable yarns in commercial quantities in a timely manner. Fabrictex’s request is denied.

J. Hayden Boyd,
Acting Chairman, Committee for the Implementation of Textile Agreements.

[FR Doc. 01-22405 Filed 9-5-01; 8:45 am]

BILLING CODE 3510-DR-S